SMALL BUSINESS ADMINISTRATION

Information Collection Activities: Proposed Collection; Comment Request; Fast Track Generic Clearance for the Collection of Qualitative Feedback on Agency Service Delivery

AGENCY: Small Business Administration.

ACTION: 60-Day notice and request for comments.

SUMMARY: As part of its continuing effort to reduce paperwork burden on the public the Small Business Administration (SBA), announces its intent to submit a new generic collection of information: “Fast Track Generic Clearance for the Collection of Qualitative Feedback on Agency Service Delivery” to the Office of Management and Budget for approval. The Paperwork Reduction Act (PRA) requires federal agencies to publish a notice in the Federal Register concerning each proposed collection of information before submission to OMB and to allow 60 days for public comment in response to the notice. This notice complies with that requirement.

DATES: Submit comments on or before November 27, 2017.

ADDRESSES: Send all comments to Small Business Administration, 409 3rd Street, 7th Floor, Washington, DC 20416. (202) 205-6981.

FOR FURTHER INFORMATION CONTACT: Amber Chaudhry, Presidential Management Fellow, Office of the Chief Operating Office, amber.chaudhry@sba.gov, 202-657-9722, or Curtis B. Rich, Management Analyst, 202-205-7030, curtis.rich@sba.gov.

SUPPLEMENTARY INFORMATION:

Title: Fast Track Generic Clearance for the Collection of Qualitative Feedback on Agency Service Delivery.

OMB Control Number: TBD (New Collection).

Needs and Uses: The proposed information collection will provide a means to gather qualitative customer and stakeholder feedback in an efficient, timely manner, in accordance with SBA's commitment to improving service delivery. Qualitative feedback means information that provides useful insights on perceptions and opinions, but is not statistical surveys that yield quantitative results that can be generalized to the population being studied. The type of feedback being solicited will provide insights into customer or stakeholder perceptions, experiences and expectations, and to contribute directly to the improvement of program management, provide an early warning of service issues, or focus attention on areas where communication, training or changes in operations might improve delivery of products or services.

SBA expects to use various methods (e.g., focus groups, customer satisfaction surveys, comment cards), to solicit public feedback and will target areas such as: Timeliness, appropriateness, accuracy of information, courtesy, efficiency of service delivery, and resolution of issues with service delivery. Responses will be assessed to plan and inform efforts to improve or maintain the quality of service offered to the public. If this information is not collected, vital feedback from customers and stakeholders on the Agency's services will be unavailable.

The Agency will only submit a collection for approval under this generic clearance if it meets the following conditions:

The collection is voluntary;

The collection is low-burden for respondents (based on considerations of total burden hours, total number of respondents, or burden-hours per respondent) and is low-cost for both the respondents and the Federal Government;

The collection is non-controversial and does not raise issues of concern to other Federal agencies;

The collection is targeted to the solicitation of opinions from respondents who have experience with the program or may have experience with the program in the near future;

Personally identifiable information (PII) is collected only to the extent necessary and is not retained;

Information gathered will be used only internally for general service improvement and program management purposes and is not intended for release outside of the agency;

Information gathered will not be used for the purpose of substantially informing influential policy decisions;

Information gathered will yield qualitative information;

This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to undertaking the study. Depending on the degree of influence the results are likely to have, such collections may still be eligible for submission for other generic mechanisms that are designed to yield quantitative results.

As a general matter, the generic information collections will not result in any new system of records containing privacy information and will not ask questions of a sensitive nature, such as sexual behavior and attitudes, religious beliefs, and other matters that are commonly considered private.

Affected Public: Individuals; Business or Other For-Profit; Not-For-Profit Institutions; State, Local, or Tribal Government.

Estimated Annual Number of Respondents: 7,500.

Projected average burden estimates for the next three years:

Average Annual Number of Collection Activities: 8.

Responses per Respondent: 1.

Total Annual Responses: 7,500.

Average Minutes per Response: 38 minutes.

Annual Burden Hours: 4,750.

Frequency: On occasion.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Curtis B. Rich,
Management Analyst.

[FR Doc. 2017-20579 Filed 9-25-17; 8:45 am]

BILLING CODE 8025-01-P